DEPARTMENT OF STATE

[Public Notice 6740]

U.S. Department of State Advisory Committee on Private International Law: Notice of Annual Meeting

The Department of State's Advisory Committee on Private International Law (ACPIL) will hold its annual meeting on developments in private international law on Monday, October 19 and Tuesday, October 20, 2009 in Washington, DC. The meeting will be held at the Michael K. Young Faculty Conference Center, George Washington University Law School, 2000 H Street, NW., Washington, DC 20052. The program is scheduled to run from 9:30 a.m. to 5 p.m. both days.

Time permitting, we expect that the discussion will focus on developments in a number of areas, e.g., federalism issues in implementing private international law conventions (including the Hague Convention on Choice of Court Agreements, the UNCITRAL E-Commerce and Letter of Credit Conventions, and others); private international law initiatives in the OAS; cross-border corporate insolvency; the new Rotterdam Rules on carriage of goods at sea; international family law; investment securities and treaty law; and commercial law treaties and trends. We encourage active participation by all those attending.

Documents on these subjects are available at http://www.hcch.net; http://www.uncitral.org; http://www.unidroit.org; http://www.oas.org, and http://www.nccusl.org. We may, by e-mail, supplement those with additional documents.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to smeltzertk@state.gov. Those planning to attend should provide name, affiliation and contact information to Trish Smeltzer or Niesha Toms at 202-776-8420, or by e-mail to tomsnn@state.gov. You may also use those contacts to obtain additional information. A member of the public needing reasonable accommodation should advise those same contacts not later than October 12th. Requests made after that date will be considered, but might not be able to be fulfilled.

Dated: August 27, 2009.
Keith Loken,
Assistant Legal Adviser, Office of Private International Law, Office of the Legal Adviser, Department of State.

[FR Doc. E9-21414 Filed 9-3-09; 8:45 am]

BILLING CODE 7410-08-P